DEPARTMENT OF THE TREASURY

Internal Revenue Service

Privacy Act of 1974; System of Records

AGENCY: Internal Revenue Service, Treasury.

ACTION: Notice of proposed new system of records.

SUMMARY: In accordance with the requirements of the Privacy Act of 1974, as amended, 5 U.S.C. 552a, the Internal Revenue Service (IRS), Treasury, gives notice of a newly proposed Servicewide system of records entitled “Third Party Contact Reprisal Records—Treasury/IRS 00.334” that is being established in accordance with Internal Revenue Code section 7602(c).

DATES: Comments must be received no later than November 24, 2000. The proposed system of records will be effective December 4, 2000 unless the IRS receives comments which would result in a contrary determination.

ADDRESSES: Comments should be sent to Internal Revenue Service, Office of Governmental Liaison and Disclosure, Room 1603, 1111 Constitution Ave., NW, Washington, DC 20224. Comments will be made available for inspection and copying in the IRS Freedom of Information Act (FOIA) Reading Room. An appointment for inspecting the comments can be made by contacting the FOIA Reading Room.

FOR FURTHER INFORMATION CONTACT: Harry Manaka, National Director, Collection Field Operations, Room 7238, 1111 Constitution Avenue, NW, Washington, DC 20224. Telephone number (202) 622-5110.

SUPPLEMENTARY INFORMATION: The proposed system of records contains records concerning reprisal determinations made under 26 U.S.C. 7602(c). The IRS already has a Privacy Act system of records, Treasury/IRS 00.333, for third party contact records that are used to inform the taxpayer of third party contacts in compliance with 26 U.S.C. 7602(c). However, a second system that is exempted under a proposed rule from certain provisions of the Privacy Act is needed for records that concern reprisal determinations in order to protect third party contacts and others from potential reprisal.

The new proposed system will allow the IRS to withhold the information that there was a reprisal determination. Withholding such information will protect the third party contact.

The new system of records report, as required by 5 U.S.C. 552a(r) of the Privacy Act, has been submitted to the Committee on Government Reform of the House of Representatives, the Committee on Governmental Affairs of the Senate, and the Office of Management and Budget, pursuant to Appendix I to OMB Circular A-130, “Federal Agency Responsibilities for Maintaining Records About Individuals,” dated February 8, 1996.

The proposed Servicewide system of records, Third Party Contact Reprisal Records—Treasury/IRS 00.334, will be exempted from disclosure provisions of the Privacy Act under (k)(2) of the Act to protect third party contacts and others from potential reprisal. A proposed rule is being published separately in the Federal Register.

In addition, Treasury/IRS 00.333—Third Party Contact Records, will be altered to delete “fact of reprisal determination” from its categories of records, because those reprisal determination records will be covered under the proposed new system. The notice altering Treasury/IRS 00.333 will also be published separately in the Federal Register.

The proposed Third Party Contact Reprisal Records—Treasury/IRS 00.334 is published in its entirety below.

Dated: August 29, 2000.
W. Earl Wright, Jr.,
Chief Management, and Administrative Programs Officer.

Treasury/IRS 00.334

System Name:

Third Party Contact Reprisal Records.

System Location:

District Offices, Regional Offices, Service Centers, Office of Assistant Commissioner (International), and IRS Computing Centers. (See IRS appendix A for addresses.)

Categories of Individuals Covered by The System:

Individuals on whom Federal tax assessments have been made; individuals believed to be delinquent in filing Federal tax returns or in paying Federal taxes, penalties or interest; individuals who are or have been considered for examination for tax determination purposes; i.e., income, estate and gift, excise or employment tax liability.

Categories of Records in The System:

Records of third party contacts as described in 26 U.S.C. 7602(c), where reprisal determinations have been made, including the taxpayer name control, taxpayer identification number, date of contact, fact of reprisal determination, and IRS personnel's identification number.

Authority For Maintenance of The System:

5 U.S.C. 301; 26 U.S.C. 7602, and 7801.

Purpose(s):

These records will be used to track the number of reprisal determinations made pursuant to IRC § 7602(c)(3)(B).

Routine Uses of Records Maintained in The System Including Categories of Users And The Purposes of Such Uses:

Disclosure of returns and return information may only be made as authorized by 26 U.S.C. 6103 and 7602(c).

Policies And Practices For Storing, Retrieving, Accessing, Retaining, And Disposing of Records in The System:

Storage:

Paper records and electronic storage media.

Retrievability:

By taxpayer identification number.

Safeguards:

Access controls will be no less than those provided by IRM 2.1.10, Automated Information Systems Security Handbook; 1(16)12, Manager's Security Handbook.

Retention And Disposal:

Records are maintained in accordance with Records Disposition Handbooks, IRM 1(15)59.1 through IRM 1(15)59.32.

System Manager(s) And Addresses:

Official prescribing policies and practices: Assistant Commissioner (Collection). Officials maintaining the system: Assistant Commissioner (International), Regional Chief Compliance Officers, District Directors, IRS Service Center Directors, IRS Computing Center Directors, Associate Chief Counsel, Regional Counsel, and District Counsel.

Notification Procedure:

This system of records is exempt from certain provisions of the Privacy Act.

Records Access Procedure:

This system of records is exempt from certain provisions of the Privacy Act and may not be accessed for the purpose of determining if the system contains a record pertaining to a particular individual.

Contesting Record Procedure:

This system of records is exempt from certain provisions of the Privacy Act and may not be accessed for purposes of inspection or contest of record contents. Also, 26 U.S.C. 7852(e) prohibits Privacy Act amendment of tax records.

Record Source Categories:

This system of records is exempt from the Privacy Act provision which requires that record source categories be reported. (See “Exemptions Claimed for the System,” below.)

Exemptions Claimed for the System:

This system is exempt from 5 U.S.C. 552a(c)(3), (d)(1), (d)(2), (d)(3), (d)(4), (e)(1), (e)(4)(G),(H) and (I), and (f) of the Privacy Act pursuant to 5 U.S.C. 552a(k)(2). (see 31 CFR 1.36)

[FR Doc. 00-27413 Filed 10-24-00; 8:45 am]

BILLING CODE 4810-01-P